DEPARTMENT OF THE INTERIOR

National Park Service

[NPS-IMR-LAMR-10224; 2310-0091-422]

Off-Road Vehicle Management Plan, Draft Environmental Impact Statement, Lake Meredith National Recreation Area, Texas

AGENCY: National Park Service, Interior.

ACTION: Notice of Availability.

SUMMARY: Pursuant to § 102(2)(C) the National Environmental Policy Act of 1969, 42 U.S.C. 4332(2)(C), the National Park Service (NPS) is releasing a Draft Environmental Impact Statement (DEIS) for the Off-Road Vehicle Management Plan (Plan), Lake Meredith National Recreation Area (LAMR), Texas. The Plan/DEIS evaluates the impacts of four alternatives that address off-road vehicle (ORV) management in the national recreation area. It also assesses the impacts that could result from continuing the current management framework in the no action alternative. The selected alternative will guide ORV management at LAMR for the next 15 years.

DATES: The NPS will accept comments on the DEIS from the public for 60 days following publication by the U.S. Environmental Protection Agency (EPA) of the Notice of the Availability of the DEIS. After the EPA Notice of Availability is published, NPS will schedule public meetings during the comment period. Dates, time, and locations of these meetings will be announced in press releases, a newsletter, and on the NPS Planning, Environment, and Public Comment (PEPC) Web site for the project at http://www.parkplanning.nps.gov/LAMR.

ADDRESSES: Information will be available for public review and comment online at: http://parkplanning.nps.gov/LAMR. Copies of the Plan/DEIS will be available in the office of the Superintendent, Lake Meredith National Recreation Area, Alibates Flint Quarries National Monument, 419 E. Broadway, Fritch, Texas 79036-1460, or by phone at (806) 857-3151.

FOR FURTHER INFORMATION CONTACT: Cindy Ott-Jones, Superintendent, Lake Meredith National Recreation Area, Alibates Flint Quarries National Monument, P.O. Box 1460, Fritch, Texas 79036-1460, or by phone at (806) 857-3151, or by email at Cindy_Ott-Jones@nps.gov.

SUPPLEMENTARY INFORMATION: The purpose of this Plan/DEIS is to manage ORV use in the national recreation area for visitor enjoyment and recreation opportunities, while minimizing and correcting damage to resources. By special regulation (Title 36, Section 7.57 of the Code of Federal Regulations), the national recreation area allows the use of ORVs in two areas: Blue Creek and Rosita Flats. Action is needed at this time to comply with Executive Order 11644, provide for sustainable ORV use areas, address the lack of an approved plan, address resource impacts resulting from ORV use, and address the change in numbers, power, range, and capabilities of ORVs currently using the ORV areas.

The Plan/DEIS evaluates four alternatives: A No Action Alternative (A) and three Action Alternatives (B, C, and D (preferred)). These are summarized briefly here. Other alternatives were explored but dismissed; these are discussed in some detail in the draft Plan/DEIS.

• Alternative A: No Action—The national recreation area would continue to operate under the 2007 Interim ORV Management Plan where ORVs are allowed below the 3,000 foot elevation line in Rosita Flats and from cutbank to cutbank at Blue Creek. Limited facilities are supplied. No additional management tools such as zoning, permits, or use limits would be implemented.

• Alternative B: Under this alternative, ORV use would be managed through a zone system. Uses would be separated into the following zones: Camping, hunting, resource protection, low speed, and beginner. At Rosita Flats, two areas would be established as ORV areas and a number of routes would be designated. At Blue Creek, ORVs would only be allowed on sandy bottom areas designated routes, with ORV use prohibited on vegetated areas. ORV users would be required to obtain a free permit for educational purposes.

• Alternative C: This alternative manages ORV use through a fee permit system and user limits. Permits would include a fee and initially, there would be no limit on the number of permits. However, additional studies would be required to determine the appropriate use limit, and limits could be set in the future. ORV routes and areas would be designated, including one ORV area and designated routes at Rosita Flats and the sandy bottom area of Blue Creek.

• Alternative D: The preferred alternative manages ORV use through a zone system. Uses would be separated into the following zones: Camping, hunting, resource protection, low speed, and beginner. At Rosita Flats, two areas would be established as ORV areas and a number of routes would be designated. At Blue Creek, ORVs would only be allowed on sandy bottom areas designated routes, with ORV use prohibited on vegetated areas. ORV permits would be required and a fee would apply. Permit fees would be used to recover costs associated with ORV management. New and current education and outreach efforts would also continue under alternative D.

If you wish to comment, you may submit your comments by any one of several methods. You may mail comments to Office of the Superintendent, Lake Meredith National Recreation Area, Alibates Flint Quarries National Monument, P.O. Box 1460, Fritch, Texas 79036-1460. You may also submit your comments online on the PEPC Web site at http://parkplanning.nps.gov/LAMR. Finally, you may hand-deliver comments to Lake Meredith National Recreation Area and Alibates Flint Quarries National Monument, 419 E. Broadway, Fritch, Texas 79036. Oral statements and written comments will also be accepted during the public meetings. Comments will not be accepted by fax, email, or in any other way than those specified above. Bulk comments in any format (hard copy or electronic) that do not include a signature and are submitted on behalf of others will not be accepted. Before including your address, phone number, email address, or other personal identifying information in your comment, you should be aware that your entire comment (including your personal identifying information) may be made publicly available at any time. While you can ask us in your comment to withhold your personal identifying information from public review, we cannot guarantee that we will be able to do so. We will make all submissions from organizations or businesses, from individuals identifying themselves as representatives or officials, of organizations or businesses, available for public inspection in their entirety.

Dated: December 14, 2012.
John Wessels,
Regional Director, Intermountain Region, National Park Service.

[FR Doc. 2013-01434 Filed 1-24-13; 8:45 am]

BILLING CODE 4310-CB-P